DEPARTMENT OF COMMERCE

National Oceanic and Atmospheric Administration

[RTID 0648-XE498]

Marine Mammals; File No. 28229

AGENCY: National Marine Fisheries Service (NMFS), National Oceanic and Atmospheric Administration (NOAA), Commerce.

ACTION: Notice; receipt of application.

SUMMARY: Notice is hereby given that Humble Bee Films (Responsible Party: Natasha Busjeet), 8 Elmdale Road, Bristol, BS8 1SL, United Kingdom, has applied in due form for a permit to conduct commercial and educational photography on humpback whales (Megaptera novaeangliae).

DATES: Written comments must be received on or before December 30, 2024.

ADDRESSES: These documents are available upon written request via email to NMFS.Pr1Comments@noaa.gov.

Written comments on this application should be submitted via email to NMFS.Pr1Comments@noaa.gov. Please include File No. 28229 in the subject line of the email comment.

Those individuals requesting a public hearing should submit a written request via email to NMFS.Pr1Comments@noaa.gov. The request should set forth the specific reasons why a hearing on this application would be appropriate.

FOR FURTHER INFORMATION CONTACT: Carrie Hubard or Erin Markin, Ph.D., (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant proposes to film up to 540 humpback whales annually in the Auau Channel, Hawaii. Filming may occur from vessels, unmanned aircraft systems, and underwater divers. Fifty bottlenose (Tursiops truncatus) and 50 spinner (Stenella longirostris) dolphins may be filmed while interacting with humpback whales. Footage will be used for an episode of a natural history television series. The permit would be valid through April 2026.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: November 22, 2024.
Amy Sloan,
Acting Chief, Permits and Conservation Division, Office of Protected Resources, National Marine Fisheries Service.

[FR Doc. 2024-28047 Filed 11-27-24; 8:45 am]

BILLING CODE 3510-22-P